DEPARTMENT OF LABOR

Employment and Training Administration

[SGA/DFA-PY 06-01]

Solicitation for Grant Applications (SGA); Women in Apprenticeship and Nontraditional Occupations (WANTO) Grants

AGENCY: Employment and Training Administration (ETA), Labor.

ACTION: Notice; Amendment to SGA/DFA-PY-06-01.

SUMMARY: The Employment and Training Administration published a document in the Federal Register on February 13, 2007 announcing the availability of funds and solicitation for grant applications (SGA) for the Women in Apprenticeship and Nontraditional Occupations (WANTO) grant programs. This notice is an amendment to the SGA and it amends the Supplementary Information section to correct the number of sections in this SGA.

FOR FURTHER INFORMATION CONTACT: James Stockton, Grant Officer, Division of Federal Assistance, at (202) 693-3335.

Supplementary Information Correction: In the Federal Register of February 13, 2007, in FR Doc. E7-2400, in the first sentence (page 6768), “This SGA consists of eleven (11) sections” is corrected to read, “This SGA consists of eight (8) sections.”

Date: This notice is effective February 23, 2007.

Signed at Washington, DC, this 16th day of February, 2007.
James W. Stockton,
Grant Officer.

[FR Doc. E7-3038 Filed 2-22-07; 8:45 am]

BILLING CODE 4510-30-P